DEPARTMENT OF THE INTERIOR

National Park Service

[0050-XXXX-673]

30-Day Notice of Opportunity for Public Comment on U.S. Nominations to the World Heritage List and Potential Additions to the U.S. World Heritage Tentative List

AGENCY: National Park Service, Interior.

ACTION: Notice and request for comments.

SUMMARY: This is a first notice for the public to comment on the next potential U.S. nominations from the U.S. World Heritage Tentative List to the United Nations Educational, Scientific and Cultural Organization (UNESCO) World Heritage List, and on possible additions to the Tentative List. This notice complies with 36 CFR 73.7(c).

The U.S. World Heritage Tentative List (formerly referred to as the Indicative Inventory) appears at the end of this notice. The current Tentative List was transmitted to the UNESCO World Heritage Centre on January 24, 2008, and includes properties that appear to qualify for World Heritage status and which may be considered for nomination by the United States to the World Heritage List. Any property nominated to the World Heritage List must have been on the Tentative List for at least a year prior to its nomination, according to the Operational Guidelines of the World Heritage Committee.

The preparation of the Tentative List provides multiple opportunities for the public to comment on which sites to include, as part of a process that also included recommendations by the U.S. National Commission for UNESCO, a Federal Advisory Commission to the U.S. Department of State.

The U.S. Department of the Interior is now considering whether to nominate any of the properties on the Tentative List to the World Heritage List. The Department will consider public comments received during this comment period and the advice of the Federal Interagency Panel for World Heritage in making a final decision on future nominations. Comments may also be made on suggestions for additions to the Tentative List, although the Department is not required to make additions to the List.

DATES: Comments upon whether to nominate any of the properties on the Tentative List or for properties to be added to the Tentative List will be accepted on or before thirty days from the date of publication of this notice in the Federal Register.

If a site is selected by the Department for nomination, public notice will be made of the decision. The site's owner(s) will be responsible, in cooperation with the National Park Service, for preparing the draft nomination in the nomination format required by the World Heritage Committee and for gathering documentation in support of it. Legal protective measures must be in place before a property may be nominated. Any such nominations must be received from the preparers by the National Park Service in substantially complete draft form by a date on or near July 15, 2011. Such draft nominations will be reviewed, amended if necessary, and if considered by the Department to be technically and substantively adequate, provided to the World Heritage Centre for technical review no later than September 30, 2011. The Centre would then provide comments by November 14, 2011, with final submittal to the World Heritage Centre by the Department of the Interior through the Department of State by January 30, 2012. Any nomination submitted by that date will be considered by the World Heritage Committee at its meeting in the summer of 2013. The Committee, composed of representatives of 21 nations elected as the governing body of the World Heritage Convention, makes the final decisions on which nominations to accept on the World Heritage List. If a nomination cannot be completed in accordance with this timeline, work may continue on the nomination for possible submission to UNESCO in a subsequent year.

ADDRESSES: Please provide all comments directly to Jonathan Putnam, Office of International Affairs, National Park Service, 1201 Eye Street, NW. (0050), Washington, DC 20005 or by e-mail to: jonathan_putnam@nps.gov. Phone: 202-354-1809. Fax 202-371-1446. All comments will be a matter of public record. Before including an address, phone number, e-mail address, or other personal identifying information in a comment, please be aware that the entire comment—including personal identifying information—may be made public at any time. While you can request that personal identifying information be withheld from public review, it may not be possible to comply with this request.

Comments on whether to nominate any of the properties on the Tentative List or whether to add properties to the Tentative List should address the qualifications of the properties for World Heritage listing. The World Heritage nomination criteria can be found on the National Park Service Office of International Affairs Web site http://www.nps.gov/oia. Suggestions for additions to the Tentative List should also address the U.S. legal prerequisites noted in the Supplementary Information below.

All public comments are welcomed and will be summarized and provided to Department of the Interior officials, who will obtain the advice of the Federal Interagency Panel for World Heritage before making any selection of properties for World Heritage nomination. The selection may include the following considerations:

(i) How well the particular type of property (i.e., theme or region) is represented on the World Heritage List;

(ii) The balance between cultural and natural properties already on the List and those under consideration;

(iii) Opportunities the property affords for public visitation, interpretation, and education;

(iv) Potential threats to the property's integrity or its current state of preservation; and,

(v) Other relevant factors, including public interest and awareness of the property, and the likelihood of being able to complete a satisfactory nomination according to the timeline described above.

FOR FURTHER INFORMATION CONTACT: Jonathan Putnam, 202-354-1809 or April Brooks, 202-354-1808. General information about U.S. participation in the World Heritage Program and the process used to develop the Tentative List is posted on the Office of International Affairs Web site at http://www.nps.gov/oia/topics/worldheritage/worldheritage.htm.

Only the 13 properties or groups of properties included in the U.S. Tentative List are eligible to be considered for nomination by the United States to the World Heritage List at this time. One property on the List, Papahanaumokuakea Marine National Monument, was nominated in 2009 and listed as a World Heritage Site in 2010. Brief descriptions of the properties appear on the Web site just noted.

To request a paper copy of the U.S. Tentative List, please contact April Brooks, Office of International Affairs, National Park Service, 1201 Eye Street, NW. (0050) Washington, DC 20005. E-mail: april_brooks@nps.gov.

For the World Heritage nomination Format, see the World Heritage Centre Web site at http://whc.unesco.org/en/nominations.

SUPPLEMENTARY INFORMATION:

Background

The World Heritage List is an international list of cultural and natural properties nominated by the signatories to the World Heritage Convention (1972). The United States was the prime architect of the Convention, an international treaty for the preservation of natural and cultural heritage sites of global significance proposed by President Richard M. Nixon in 1972, and the U.S. was the first nation to ratify it. The United States has served several terms on the elected 21-nation World Heritage Committee, but is not currently on the Committee. There are 911 sites in 151 of the 187 signatory countries. Currently there are 21 World Heritage Sites in the United States.

U.S. participation and the roles of the Department of the Interior and the National Park Service are authorized by Title IV of the Historic Preservation Act Amendments of 1980 and conducted in accordance with 36 CFR 73—World Heritage Convention.

The National Park Service serves as the principal technical agency for the U.S. Government to the Convention and manages all or parts of 17 of the 21 U.S. World Heritage Sites currently listed, including Yellowstone National Park, Everglades National Park, and the Statue of Liberty.

A Tentative List is a national list of natural and cultural properties appearing to meet the World Heritage Committee eligibility criteria for nomination to the World Heritage List. It is a list of candidate sites a country intends to consider for nomination within a given time period. A country cannot nominate a property unless it has been on its Tentative List for a minimum of one year. Countries also are limited to nominating no more than two sites in any given year.

Neither inclusion in the Tentative List nor inscription as a World Heritage Site imposes legal restrictions on owners or neighbors of sites, nor does it give the United Nations any management authority or ownership rights in U.S. World Heritage Sites, which continue to be subject only to U.S. laws. Inclusion in the Tentative List merely indicates the property may be further examined for possible World Heritage nomination in the future.

The World Heritage Committee's Operational Guidelines ask participating nations to provide Tentative Lists, which aid in evaluating properties for the World Heritage List on a comparative international basis and help the Committee schedule its work over the long term.

In order to guide the U.S. World Heritage Program effectively and in a timely manner, NPS prepared and submitted (through the Secretary of the Interior and the Secretary of State) to the World Heritage Centre of UNESCO on January 24, 2008, the previously referenced Tentative List of properties that appear to meet the criteria for nomination.

In order to be included, a proposed site must meet several U.S. prerequisites in addition to appearing to meet the stringent World Heritage criteria of international importance. The U.S. prerequisites include the written agreement of all property owners to the nomination of their property, general support from stakeholders, including elected officials, and a prior official determination that the property is nationally important (such as by designation as a National Historic or National Natural Landmark).

Process for Developing the U.S. World Heritage Tentative List

The Tentative List was developed using an application approved by the Office of Management and Budget (OMB) on August 29, 2006 (OMB Control No. 1024-0250), pursuant to a 30-Day Notice of Request for Clearance of Collection of Information to the Office of Management and Budget published by NPS in the Federal Register on July 27, 2006 (FR 71, 144:42664-42665).

The National Park Service Office of International Affairs provided the application form in August 2006 for voluntary applications to a new U.S. World Heritage Tentative List by governmental and private property owners. It was intended that preparers use the application to demonstrate the property meets the criteria established by the World Heritage Committee for inclusion in the World Heritage List and other requirements, including those of U.S. domestic law (16 U.S.C. 470a-1, a-2, d) and program regulations (36 CFR 73-World Heritage Convention).

Thirty-seven (37) applications were received by the April 1, 2007, deadline. Two were subsequently withdrawn. The National Park Service made recommendations based on staff review of the applications by the Office of International Affairs, in consultation with National Park Service subject matter experts and external reviewers for cultural and natural resources who are knowledgeable about the World Heritage Committee's policies, practices and precedents. Additional correspondence and/or addenda containing revised or expanded material was received from most applicants in response to written reviews that were provided to them; all of this material was carefully considered.

NPS staff recommendations were provided to the World Heritage Tentative List Subcommittee of the U.S. National Commission for UNESCO for review.

The subcommittee made recommendations to the full Commission, whose recommendations were published for comment in the Federal Register on October 31, 2007.

U.S. World Heritage Tentative List Cultural Sites (9)

Civil Rights Movement Sites, Alabama

Dexter Avenue King Memorial Baptist Church, Montgomery

Bethel Baptist Church, Birmingham

16th Street Baptist Church, Birmingham

Dayton Aviation Sites, Ohio

Dayton Aviation Heritage National Historical Park, including:

—Huffman Prairie (part of Wright-Patterson Air Force Base)

—Wright Cycle Company and Wright & Wright Printing, Dayton

—Wright Hall (housing the Wright Flyer III), Dayton

—Hawthorn Hill, Dayton

Hopewell Ceremonial Earthworks, Ohio

Fort Ancient State Memorial, Warren County

Hopewell Culture National Historical Park, near Chillicothe

Newark Earthworks State Historic Site, Newark and Heath, including:

—Wright Earthworks

—The Octagon Earthworks.

—Great Circle Earthworks

Jefferson (Thomas) Buildings, Virginia

Poplar Forest, Bedford County

Virginia State Capitol, Richmond. (Proposed jointly as an extension to the World Heritage listing of Monticello and the University of Virginia Historic District)

Mount Vernon, Virginia

Poverty Point National Monument and State Historic Site, Louisiana

San Antonio Franciscan Missions, Texas

Mission San Antonio de Valero (The Alamo)

San Antonio Missions National Historical Park, including:

—Mission Concepción

—Mission San Jose

—Mission San Juan

—Mission Espada (including Rancho de las Cabras)

Serpent Mound, Ohio

Wright (Frank Lloyd) Buildings

Taliesin West, Scottsdale, Arizona. Hollyhock House, Los Angeles, California

Marin County Civic Center, San Rafael, California

Frederick C. Robie House, Chicago, Illinois

Unity Temple, Oak Park, Illinois

Solomon R. Guggenheim Museum, New York, New York

Price Tower, Bartlesville, Oklahoma

Fallingwater, Mill Run, Pennsylvania

S. C. Johnson and Son, Inc., Administration Building and Research Tower, Racine, Wisconsin

Taliesin, Spring Green, Wisconsin

Natural Sites (4)

Fagatele Bay National Marine Sanctuary, American Samoa

Okefenokee National Wildlife Refuge, Georgia

Petrified Forest National Park, Arizona

White Sands National Monument, New Mexico

Authority: 16 U.S.C. 470 a-1, a-2, d; 36 CFR 73.

Dated: December 6, 2010.
Thomas L. Strickland,
Assistant Secretary for Fish and Wildlife and Parks.

[FR Doc. 2010-31316 Filed 12-13-10; 8:45 am]

BILLING CODE 4312-52-P